DEPARTMENT OF LABOR

Mine Safety and Health Administration

Petitions for Modification of Application of Existing Mandatory Safety Standards

AGENCY: Mine Safety and Health Administration, Labor.

ACTION: Notice.

SUMMARY: This notice is a summary of two petitions for modification submitted to the Mine Safety and Health Administration (MSHA) by the parties listed below.

DATES: All comments on the petitions must be received by MSHA's Office of Standards, Regulations, and Variances on or before December 10, 2020.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Roslyn B. Fontaine, Deputy Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Aromie Noe, Office of Standards, Regulations, and Variances at 202-693-9557 (voice), Noe.Song-Ae.A@dol.gov (email), or 202-693-9441 (facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, the regulations at 30 CFR 44.10 and 44.11 establish the requirements for filing petitions for modification.

II. Petitions for Modification

Docket Number: M-2020-032-C.

Petitioner: Canyon Fuel Company, LLC, HC 35 Box 380, Helper, UT 84526.

Mine: Skyline Mine, MSHA I.D. No. 42-01566, located in Carbon County, Utah.

Regulation Affected: 30 CFR 75.500(d) (Permissible electric equipment).

Modification Request: The petitioner is applying to use various non-MSHA approved Powered Air Purifying Respirators (PAPRs) equipment in lieu of the current standard, in or inby the last open crosscut.

The petitioner states that:

(a) The modification to the current standard is requested to allow for an alternative method of respiratory protection for longwall miners.

(b) The current 3M Airstream PAPR, the Mining Headgear-Mounted model, is approved by MSHA but is being discontinued by the manufacturer, 3M. The 3M Airstream model allows for constantly filtered air to flow, reducing exposure to respirable dust. There are no other MSHA-approved PAPRs.

(c) The petitioner is applying to allow for non-MSHA approved PAPRs to protect miners from exposure to respirable dust during regular mining operations in or inby the last open crosscut.

(d) This petition will allow longwall miners to use PAPRs in MMU 001-0 and MMU 007-0, giving miners the opportunity to reduce dust exposure, decreasing health risks.

As an alternative to the existing standard, the petitioner proposes the following:

(a) The petitioner proposes using the following intrinsically safe models:

(1) CleanSpace EX—full or half mask;

(2) CleaSpace2—Full or half mask, this is NIOSH approved and intrinsically safe;

(3) 3M Versaflo TR-800—certified under ANSI/UL 60079-11 standard for hazardous locations, it is intrinsically safe; and

(4) Non-battery powered 3M Ultimate FX full facepiece respirator mask.

(b) CleanSpace respirators use an air filtering, fan assisted pressure mask, which can be used in high dust environments. They are light and compact, require no servicing, are intrinsically safe, and have few parts. The 3M Versaflo TR-800 allows for increased movement in tight spaces, while protecting against airborne contaminates. It is easy to use, has interchangeable components for specific application, is intrinsically safe, has audible and visual alarms, multi-speed blower, long battery run times, charges quickly and is ANSI/UL 60079-11 certified, allowing it to be used in hazardous locations. The 3M Ultimate FX respirator utilizes a scotchguard protection lens, allowing liquids to bead up and be removed easily, a large lens provides visibility, it is comfortable and easy to use, the 3M cool flow valve allows for easier breathing, and particle filters help filter out various particulates.

(c) When not in operation, batteries for the PAPR models will be charged outby the last open crosscut.

(d) The following battery charger products will be used: 3M battery charger TR-641N or 3M 4-station battery charger TR-644-N.

(e) The 3M Versaflo TR-800 PAPR will exclusively use the 3M TR-830 battery pack.

(f) Miners will be trained on how to safely use and take care of PAPR units, per manufacturer instructions.

(g) The above instruments will be assessed for physical damage as well as the integrity of the case.

(h) If methane levels go above 1.0 percent, 30 CFR 57.22234 procedures will be followed.

The petitioner asserts that the proposed alternative method will at all times guarantee no less than the same measure of protection afforded by the standard.

Docket Number: M-2020-033-C.

Petitioner: Canyon Fuel Company, LLC, HC 35 Box 380, Helper, UT 84526.

Mine: Skyline Mine, MSHA I.D. No. 42-01566, located in Carbon County, Utah.

Regulation Affected: 30 CFR 75.507-1 (Electric equipment other than power-connection points; outby the last open crosscut; return air; permissibility requirements).

Modification Request: The petitioner is applying to use various non-MSHA approved Powered Air Purifying Respirators (PAPRs) equipment in lieu of the current standard, in return air and outby the last open crosscut.

The petitioner states that:

(a) The modification to the current standard is requested to allow for an alternative method of respiratory protection for longwall miners.

(b) The current 3M Airstream PAPR, the Mining Headgear-Mounted model, is approved by MSHA but is being discontinued by the manufacturer, 3M. The 3M Airstream model allows for constantly filtered air to flow, reducing exposure to respirable dust. There are no other MSHA-approved PAPRs.

(c) The petitioner is applying to allow for non-MSHA approved PAPRs to protect miners from exposure to respirable dust during regular mining operations in return air and outby the last open crosscut.

(d) This petition will allow longwall miners to use PAPRs in MMU 001-0 and MMU 007-0, giving miners the opportunity to reduce dust exposure, decreasing health risks.

As an alternative to the existing standard, the petitioner proposes the following:

(a) The petitioner proposes using the following intrinsically safe models:

(1) CleanSpace EX—full or half mask;

(2) CleaSpace2—Full or half mask, this is NIOSH approved and intrinsically safe;

(3) 3M Versaflo TR-800—certified under ANSI/UL 60079-11 standard for hazardous locations, it is intrinsically safe; and

(4) Non-battery powered 3M Ultimate FX full facepiece respirator mask.

(b) CleanSpace respirators use an air filtering, fan assisted pressure mask, which can be used in high dust environments. They are light and compact, require no services, are intrinsically safe, and have few parts. The 3M Versaflo TR-800 allows for increased movement in tight spaces, while protecting against airborne contaminates. It is easy to use, has interchangeable components for specific application, is intrinsically safe, has audible and visual alarms, multi-speed blower, long battery run times, charges quickly and is ANSI/UL 60079-11 certified, allowing it to be used in hazardous locations. The 3M Ultimate FX respirator utilizes a scotchguard protection lens, allowing liquids to bead up and be removed easily, a large lens provides visibility, it is comfortable and easy to use, the 3M cool flow valve allows for easier breathing, and particle filters help filter out various particulates.

(c) When not in operation, batteries for the PAPR models will be charged outby the last open crosscut.

(d) The following battery charger products will be used: 3M battery charger TR-641N or 3M 4-station battery charger TR-644-N.

(e) The 3M Versaflo TR-800 PAPR will exclusively use the 3M TR-830 battery pack.

(f) Miners will be trained on how to safely use and take care of PAPR units, per manufacturer instructions.

(g) The above instruments will be assessed for physical damage as well as the integrity of the case.

(h) If methane levels go above 1.0 percent, 30 CFR 57.22234 procedures will be followed.

The petitioner asserts that the proposed alternative method will at all times guarantee no less than the same measure of protection afforded by the standard.

Roslyn Fontaine,
Deputy Director, Office of Standards, Regulations, and Variances.

[FR Doc. 2020-24898 Filed 11-9-20; 8:45 am]

BILLING CODE 4520-43-P